DEPARTMENT OF COMMERCE

Foreign-Trade Zones Board

[B-30-2022]

Foreign-Trade Zone (FTZ) 167—Green Bay, Wisconsin; Authorization of Production Activity; Shipbuilders of Wisconsin, Inc. d/b/a Burger Boat Company (Construction and Repair of Vessels and Hulls), Manitowoc, Wisconsin

On July 28, 2022, Shipbuilders of Wisconsin, Inc. d/b/a Burger Boat Company submitted a notification of proposed production activity to the FTZ Board for its facility within FTZ 167, in Manitowoc, Wisconsin.

The notification was processed in accordance with the regulations of the FTZ Board (15 CFR part 400), including notice in the Federal Register inviting public comment (87 FR 47961, August 5, 2022). On November 25, 2022, the applicant was notified of the FTZ Board's decision that no further review of the activity is warranted at this time. The production activity described in the notification was authorized, subject to the FTZ Act and the FTZ Board's regulations, including Section 400.14.

Dated: November 25, 2022.
Andrew McGilvray,
Executive Secretary.

[FR Doc. 2022-26099 Filed 11-29-22; 8:45 am]

BILLING CODE 3510-DS-P